NUCLEAR REGULATORY COMMISSION

[Docket No. 70-7033; NRC-2024-0062]

Global Laser Enrichment, LLC; New Headquarters; Environmental Assessment and Finding of No Significant Impact

AGENCY: Nuclear Regulatory Commission.

ACTION: Notice; issuance.

SUMMARY: The U.S. Nuclear Regulatory Commission (NRC) staff is considering approval of a Standard Practice Procedures Plan (SPPP) and Transportation Security Plan (TSP) for the protection of classified matter at the new Global Laser Enrichment, LLC (GLE) headquarters facility. The NRC staff is issuing an environmental assessment (EA) and finding of no significant impact (FONSI) associated with the proposed plans.

DATES: The EA and FONSI referenced in this document are available on April 29, 2024.

ADDRESSES: Please refer to Docket ID NRC-2024-0062 when contacting the NRC about the availability of information regarding this document. You may obtain publicly available information related to this document using any of the following methods:

• Federal Rulemaking Website: Go to https://www.regulations.gov and search for Docket ID NRC-2024-0062. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section. Individuals seeking access to Official Use Only information should contact Matthew Bartlett, using the contact information listed in the For Further Information Contact section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Matthew Bartlett, Office of Nuclear Material Safety and Safeguards, U.S. Nuclear Regulatory Commission, Washington, DC 20555-0001, telephone: 301-415-7154; email: Matthew.Bartlett@nrc.gov.

SUPPLEMENTARY INFORMATION:

I. Introduction

The NRC staff is considering issuance of approval of GLE's SPPP and TSP for GLE's new headquarters, located in Wilmington, NC, approximately 6.2 miles from GLE's existing test loop facility. Approval of the SPPP and TSP fulfill the appropriate requirements for the NRC to issue a facility clearance to allow for the use, processing, storage, reproduction, transmittal, transportation, or handling of NRC classified matter at GLE's new headquarters building. Therefore, as required by section 51.21 of title 10 of the Code of Federal Regulations (10 CFR), “Criteria for and identification of licensing and regulatory actions requiring environmental assessments,” the NRC staff has prepared an EA that analyzes the environmental effects of the proposed action. Based on the results of the EA and in accordance with 10 CFR 51.31(a), the NRC staff has prepared a FONSI for the proposed action.

The NRC staff received a request from GLE for approval of the SPPP dated August 25, 2023, supplemented by letter dated March 12, 2024, and for approval of the TSP dated August 25, 2023, supplemented by later dated October 2, 2023. The NRC staff is also considering the approval of a separate but related request for a revised Program Cyber Security Plan to extend GLE's classified network to the new headquarters building. That Federal Register notice is anticipated to be published in the near future and will be available on the Federal rulemaking website (https://www.regulations.gov) by searching for Docket ID NRC-2024-0061.

II. Environmental Assessment

Description of the Proposed Action

The proposed action would allow GLE to expand use of classified matter to a new headquarters location approximately 6.2 miles from the test loop facility. As proposed, GLE would continue to possess, use, and store classified matter at its test loop facility. GLE would also possess, use, and store classified matter at the new headquarters location and would be authorized to transport classified matter between the two sites. Global Laser Enrichment, LLC operates a test loop for industrialization of the uranium enrichment process that uses separation of isotopes by laser excitation. Although GLE has an NRC-issued facility security clearance for the test loop facility under 10 CFR part 95 for protection of classified information, the facility's operations, safety, and safeguards programs are authorized under the Global Nuclear Fuel—America license SNM-1097.

Need for the Proposed Action

The proposed action would allow GLE to expand use of classified matter to a new headquarters building to facilitate further research and development potentially leading to the industrialization of the laser enrichment process. The proposed NRC staff approval of the SPPP and TSP will support the possession, use, and storage of classified matter at the new headquarters as well as transportation of classified matter between the GLE test loop facility and the GLE headquarters facility.

Environmental Impacts of the Proposed Action

The NRC staff has assessed the potential environmental impacts from approval of GLE's SPPP and TSP.

The TSP provides the security procedures for the transportation of classified matter from the test loop facility to the headquarters facility. The new GLE headquarters facility is located in Wilmington, NC. The facility is approximately 0.5 km (0.3 mi) from Interstate 140 via Castle Hayne Road and approximately 1.9 km (1.2 mi) from Interstate 140 via U.S. Highway 421. The NRC staff evaluated the potential for impacts from the proposed action and concluded that there would be no effluent releases and that the proposed action would have no significant radiological or non-radiological impacts to environmental resources. The NRC staff determined that there would be no significant impacts from the proposed action associated with the transportation of classified matter. There would be no construction of new roads or other improvements to facilitate the transportation of the classified matter. With fewer than ten trips, of three or fewer vehicles per trip, between the facilities per week, the proposed action is not expected to significantly increase traffic levels. Therefore, activities associated with transportation of classified material would not result in significant environmental impacts. The NRC staff evaluated the potential for environmental impacts at the GLE headquarters facility from the proposed approval of the SPPP, which involves modifications to systems used for security, and concluded that the proposed action would not involve any significant construction impacts.

The NRC staff assessed the impacts of the proposed action on land use; historical and cultural resources; visual and scenic resources; climatology, meteorology and air quality; geology, minerals, and soils; water resources; ecological resources; socioeconomics; noise; traffic and transportation; public and occupational health and safety; and waste management and concluded that the proposed action would have no significant environmental impacts on these resource areas. The NRC staff determined that there are no cumulative impacts associated with the proposed action.

Environmental Impacts of the Alternatives to the Proposed Action

As an alternative to the proposed action, the staff considered denial of the proposed action (i.e., the “no-action” alternative). Under this alternative, GLE would not be granted approval of the SPPP and TSP for the new location. Denial of the proposed action would result in GLE being unable to conduct operations related to classified matter at its headquarters location. The NRC staff concluded that environmental impacts from the no-action a lternative would not be significant.

Agencies and Persons Consulted

The Endangered Species Act (ESA) was enacted to prevent further decline of endangered and threatened species and restore those species and their critical habitat. Section 7 of the ESA requires Federal agencies to consult with the U.S. Fish and Wildlife Service or the National Marine Fisheries Service, as appropriate, regarding actions that may affect listed species or designated critical habitats. The NRC staff has determined that the proposed action would have no effect on threatened or endangered species or critical habitat. Therefore, consultation under section 7 of the ESA is not required.

Section 106 of the National Historic Preservation Act (NHPA) requires Federal agencies to consider the effects of their undertakings on historic properties. As stated in the NHPA, historic properties are any prehistoric or historic district, site, building, structure, or object included in or eligible for inclusion in the National Register of Historic Places. The NRC staff has determined that the undertaking is a type of activity that does not have the potential to cause effects on any historic properties that may be present. Therefore, in accordance with 36 CFR 800.3(a)(1), the NRC has no further obligations under section 106 of the NHPA.

III. Finding of No Significant Impact

GLE has requested approval of its SPPP and TSP for the new headquarters facility. The NRC staff has prepared an EA as part of its review of the proposed action. The proposed action would have no significant radiological or non-radiological impacts to environmental resources. This FONSI incorporates by reference the EA in Section II of this notice. On the basis of this EA, the NRC staff concludes that the proposed action will not have a significant effect on the quality of the human environment. Accordingly, the NRC has determined not to prepare an environmental impact statement.

IV. Availability of Documents

The documents identified in the following table are available to interested persons through one or more of the following methods, as indicated.

Document description | ADAMS accession No.
Submission for Approval of the Standard Practice and Procedures Plan (SPPP) and Transportation Plan for Global Laser Enrichment Headquarters, dated August 25, 2023. | ML23243A847
RE-Submission of the GLE Standard Practice and Procedures Plan (SPPP) for Headquarters Facility (HQ), dated March 12, 2024. | ML24081A017
RE-Submission for Approval of the Transportation Plan for Global Laser Enrichment Headquarters, dated October 2, 2023. | ML23284A062

Dated: April 23, 2024.
For the Nuclear Regulatory Commission.
Samantha Lav,
Branch Chief, Fuel Facilities Licensing Branch, Division of Fuel Management, Office of Nuclear Material Safety and Safeguards.

[FR Doc. 2024-09097 Filed 4-26-24; 8:45 am]

BILLING CODE 7590-01-P